DEPARTMENT OF STATE

[Public Notice 11238]

60-Day Notice of Proposed Information Collection: TechGirls Evaluation

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to March 5, 2021.

ADDRESSES: You may submit comments by the following method:

• Web: Persons with access to the internet may comment on this notice by going to www.Regulations.gov. You can search for the document by entering “Docket Number: DOS-2020-0046” in the Search field. Then click the “Comment Now” button and complete the comment form.

You must include the DS form number (if applicable), information collection title, and the OMB control number in any correspondence.

FOR FURTHER INFORMATION CONTACT: Direct requests for additional information regarding the collection listed in this notice, including requests for copies of the proposed collection instrument and supporting documents, may be sent to Natalie Donahue, Chief of Evaluation, Bureau of Educational and Cultural Affairs, 2200 C Street NW, Washington, DC 20037 who may be reached at (202) 632-6193 or ecaevaluation@state.gov.

SUPPLEMENTARY INFORMATION:

• Title of Information Collection: TechGirls Evaluation.

• OMB Control Number: None.

• Type of Request: New collection.

• Originating Office: Bureau of Educational and Cultural Affairs (ECA).

• Form Number: No form.

• Respondents: TechGirls program alumnae, their host families, their job shadow hosts, and ECA implementing partner program staff.

• Estimated Number of Alumnae Survey Respondents: 214.

• Estimated Number of Alumnae Survey Responses: 160.

• Average Time per Alumnae Survey: 46 minutes.

• Total Estimated Alumnae Survey Burden Time: 122.6 hours.

• Estimated Number of Host Family Survey Respondents: 60.

• Estimated Number of Host Family Survey Responses: 30.

• Average Time per Host Family Survey: 29 minutes.

• Total Estimated Host Family Survey Burden Time: 14.5 hours.

• Estimated Number of Job Shadow Host Survey Respondents: 41.

• Estimated Number of Job Shadow Host Survey Responses: 21.

• Average Time per Job Shadow Host Survey: 16 minutes.

• Total Estimated Job Shadow Host Survey Burden Time: 5.6 hours.

• Estimated Number of Implementing Partner Staff Respondents: 39.

• Estimated Number of Implementing Partner Staff Responses: 20.

• Average Time per Implementing Partner Staff Survey: 16 minutes.

• Total Estimated Implementing Partner Staff Survey Burden Time: 5.3 hours.

• Total Estimated Burden Time: 148 annual hours.

• Frequency: Once.

• Obligation to Respond: Voluntary.

We are soliciting public comments to permit the Department to:

• Evaluate whether the proposed information collection is necessary for the proper functions of the Department.

• Evaluate the accuracy of our estimate of time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

TechGirls enables students aged 15-17 to gain exposure to a range of careers in science, technology, engineering, and mathematics (STEM) through a month-long summer scholarship program in the United States. The program includes programming bootcamp, leadership skills development, job shadow with women in STEM fields, and a home stay with U.S. families. In addition to exposure to career and educational pathways, participants gain understanding of the United States and its culture and create a network of STEM-focused alumnae upon their return home. The authority for the program is the Mutual Educational and Cultural Exchange Act of 1961, as amended (22 U.S.C. 2451 et seq.).

In order to assess the efficacy and impact of TechGirls, the U.S. Department of State's Bureau of Educational and Cultural Affairs (ECA) intends to conduct an evaluation of the program, which will include collection of data from program alumnae between 2012 and 2019, program staff, host families in the United States, and job shadow hosts. As the TechGirls program has been running for almost 10 years, ECA is conducting this evaluation to determine the extent to which the program is achieving its long-term goals. In order to do so, ECA has contracted Dexis Consulting Group to conduct surveys with alumnae and surveys with their host families, program staff, and job shadow hosts.

Methodology

As baseline information is limited to initial profiles, it is necessary to collect information directly from program alumnae to assess the outcomes of the TechGirls experience, particularly in the areas of educational and career trajectories and networking with others. Additional perspectives will be sought from the participants' host families and job shadow hosts. All of these groups will receive online surveys.

Aleisha Woodward,
Deputy Assistant Secretary for Policy, Bureau of Educational and Cultural Affairs, Department of State.

[FR Doc. 2020-29049 Filed 12-31-20; 8:45 am]

BILLING CODE 4710-05-P